DEPARTMENT OF JUSTICE

[OMB Number 1121-0255]

Agency Information Collection Activities: Proposed Collection; Comments Requested; Reinstatement, With Change, of a Previously Approved Collection for Which Approval Has Expired: 2018 Census of Law Enforcement Training Academies (CLETA)

AGENCY: Bureau of Justice Statistics, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until September 21, 2018.

FOR FURTHER INFORMATION CONTACT: If you have additional comments especially on the estimated public burden or associated response time, suggestions, or need a copy of the proposed information collection instrument with instructions or additional information, please contact Anthony S. Whyde, Statistician, Law Enforcement Statistics Unit, Bureau of Justice Statistics, 810 Seventh Street NW, Washington, DC 20531 (email: Anthony.Whyde@usdoj.gov; phone: 202-307-0711).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Reinstatement, with change, of a previously approved collection for which approval has expired: 2018 Census of Law Enforcement Training Academies (CLETA). The 2018 CLETA will focus on the same topics as the 2013 collection: The number and type of law enforcement agencies served by academies, the academies' accreditation status, oversight responsibilities related to field training, reasons for recruits failing to complete their training program, and subject areas covered in the training program curricula. While there will be no content changes, BJS will modify the format and design of several survey items to improve measurement and remove questions from the 2013 survey that covered topics that may no longer be relevant.

(2) The Title of the Form/Collection: 2018 Census of Law Enforcement Training Academies (CLETA).

(3) The agency form number, if any, and the applicable component of the Department sponsoring the collection: The form number is CJ-52. The applicable component within the Department of Justice is the Bureau of Justice Statistics, Office of Justice Programs.

(4) Affected public who will be asked or required to respond, as well as a brief abstract: This information collection is a census of regional, state, and local law enforcement training academies that operated a basic training program in 2018. The 2018 survey builds upon the previous three iterations of the CLETA data collection referencing 2013, 2006, and 2002. BJS plans to field the 2018 CLETA from January through August 2019. The information will provide national statistics on staff, recruits/trainees, curricula, facilities, and policies of law enforcement training academies.

(5) An estimate of the total number of respondents and the amount of time estimated for an average respondent to respond: A projected 700 respondents will take an average of 2 hours each to complete form CJ-52, including time to research or find information not readily available. In addition, an estimated 360 of the respondents will be contacted for data quality follow-up by phone at 10 minutes per call.

(6) An estimate of the total public burden (in hours) associated with the collection: There are an estimated 1,460 total burden hours associated with this information collection.

If additional information is required contact: Melody Braswell, Department Clearance Officer, United States Department of Justice, Justice Management Division, Policy and Planning Staff, Two Constitution Square, 145 N Street NE, 3E.405A, Washington, DC 20530.

Dated: July 18, 2018
Melody Braswell,
Department Clearance Officer for PRA, U.S. Department of Justice.

[FR Doc. 2018-15723 Filed 7-20-18; 8:45 am]

BILLING CODE 4410-18-P